CORPORATION FOR NATIONAL AND COMMUNITY SERVICE

Sunshine Act Notice

The Board of Directors of the Corporation for National and Community Service gives notice of the following meeting:

DATE AND TIME: Monday, October 3, 2016, 3:00 p.m.-4:30 p.m. (ET).

PLACE: Corporation for National and Community Service, 250 E Street SW., Suite 4026, Washington, DC 20525 (Please go to the first floor lobby reception area for escort).

CALL-IN INFORMATION: This meeting is available to the public through the following toll-free call-in number: 888-847-7598 conference call access code number 7964995. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 866-367-6912. TTY: 800-833-3722. The end replay date is November 3, 2016 at 10:59 p.m. (CT).

STATUS: Open.

MATTERS TO BE CONSIDERED:

I. Chair's Welcome and Call the Meeting to Order

II. CEO's Welcome and Report

III. National Service Programs Report

IV. Office of External Affairs Report

V. Public Comments

VI. Chair Adjourns Meeting

Members of the public who would like to comment on the business of the Board must do so in writing or in person. Individuals may submit written comments to dpremo@cns.gov subject line: OCTOBER 2016 CNCS BOARD MEETING by 3:00 p.m. (ET) on September 29, 2016. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify David Premo at dpremo@cns.gov or 202-606-6717 by 3 p.m. (ET) on September 29, 2016.

CONTACT PERSON FOR MORE INFORMATION: Dave Premo, Program Support Specialist, Corporation for National and Community Service, 250 E Street SW., Washington, DC 20525. Phone: 202-606-6717. Fax: 202-606-3460. TTY: 800-833-3722. Email: dpremo@cns.gov.

Dated: September 27, 2016.
Jeremy Joseph,
General Counsel.

[FR Doc. 2016-23673 Filed 9-27-16; 4:15 pm]

BILLING CODE 6050-28-P